DEPARTMENT OF AGRICULTURE

Submission for OMB Review; Comment Request

The Department of Agriculture will submit the following information collection requirement(s) to OMB for review and clearance under the Paperwork Reduction Act of 1995, Public Law 104-13 on or after the date of publication of this notice. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by June 27, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Local Food for Schools Cooperative Agreement Program (LFS).

OMB Control Number: 0581-0334.

Summary of Collection: The Agricultural Marketing Act of 1946 (7 U.S.C. 1621 et. seq.), as amended, directs and authorizes USDA to administer Federal cooperative agreements programs. AMS cooperative agreement programs are administered according to the OMB Guidance for Grants and Cooperative Agreements under the Uniform Administrative Requirements, Cost Principles, and Audit Requirements for Federal Awards (2 CFR part 200) (85 FR 49506; December 13, 2020). The information collection requirements in this emergency request are needed for AMS to administer a new noncompetitive cooperative agreement program, in accordance with section 5(c) of the Commodity Credit Corporation Charter Act (15 U.S.C. 714c(c)), for the purchase of local foods for distribution to schools.

Need and Use of The Information: The information collected is used only by authorized representatives of USDA, AMS, Commodity Procurement Program to certify that cooperative agreement participants are complying with applicable program regulations, and the data collected is the minimum information necessary to effectively carry out the program requirements.

Description of Respondents: State, Local, and Tribal Governments.

Number of Respondents: 50.

Frequency of Responses: Reporting: Annually.

Total Burden Hours: 3,154.

Levi S. Harrell,
Departmental Information Collection Clearance Officer.

[FR Doc. 2022-11298 Filed 5-25-22; 8:45 am]

BILLING CODE 3410-02-P